DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this ICR should be received no later than August 23, 2016.

ADDRESSES: Submit your comments to paperwork@hrsa.gov or mail the HRSA Information Collection Clearance Officer, Room 14N-39, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Ryan White HIV/AIDS Program Outcomes within the Context of the Affordable Care Act, OMB No. 0906-xxxx—New.

Abstract: The Health Resources and Services Administration's HIV/AIDS Bureau (HRSA/HAB) implements the Ryan White HIV/AIDS Program (RWHAP). This program provides HIV-related services in the United States for those who do not have sufficient health care coverage or financial resources for coping with HIV disease. Enacted in 2010, the Affordable Care Act has had profound impacts on health care financing and delivery that are continuing to unfold. The expansion of health care coverage impacted many of RWHAP's traditional clients who are now eligible to receive health care coverage through Medicaid coverage and qualified health plans available on Health Insurance Marketplaces. These changes have required RWHAP sites to adapt in order to fill different gaps in care experienced by clients across the varying health care coverage options. The purpose of this evaluation study is to determine the effect that Affordable Care Act related health care coverage has had on overall health outcomes, service utilization, and gaps in care for people living with HIV. This evaluation seeks to understand how RWHAP provider sites meet the needs of clients under the variety of health care coverage options clients are encountering across the country.

Need and Proposed Use of the Information: The expansion of health care coverage now offers new options of obtaining health care services for many individuals with HIV. Due to these changes, additional information concerning overall client health outcomes, pharmaceutical and core medical processes and outcomes, and client access to and utilization of support services is needed. Data from this evaluation study will be used to provide HRSA/HAB with the necessary information to understand the changes in primary health care outcomes of RWHAP clients' pre- and post- implementation of the Affordable Care Act. This will inform how the RWHAP can best serve clients in the environment of the health care reform.

Likely Respondents: RWHAP administrators, RWHAP care providers, and RWHAP clients are the likely respondents.

Burden Statement: Burden in this context means the time expended by persons to generate, maintain, retain, disclose or provide the information requested. This includes the time needed to review instructions; to develop, acquire, install, and utilize technology and systems for the purpose of collecting, validating and verifying information, processing, and maintaining information, and disclosing and providing information; to train personnel and to be able to respond to a collection of information; to search data sources; to complete and review the collection of information; and to transmit or otherwise disclose the information. The total annual burden hours estimated for this Information Collection Request are summarized in the table below.

Total Estimated Annualized burden hours:

Form name | Number of respondents | Number of responses per respondent | Total responses | Average burden per response (in hours) | Total burden hours
Site Survey | 305 | 1 | 305 | 0.5 | 152.5
Medical Records Sample Selection Guide | 25 | 1 | 25 | 1 | 25
Site Interview Guide | 50 | 1 | 50 | 2 | 100
Focus Groups Guide | 60 | 1 | 60 | 1.5 | 90
Total | 440 |  | 440 |  | 367.5

HRSA specifically requests comments on (1) the necessity and practical utility of the proposed information collection for the proper performance of the agency's functions; (2) the accuracy of the agency's estimate of the burden of the proposed collection of information; (3) ways to enhance the quality, utility, and clarity of the information to be collected; and (4) the use of automated collection techniques or other forms of information technology to minimize the information collection burden.

Jason E. Bennett,
Director, Division of Executive Secretariat.

[FR Doc. 2016-14951 Filed 6-23-16; 8:45 am]

BILLING CODE 4165-15-P